DEPARTMENT OF COMMERCE

National Oceanic and Atmospheric Administration

RIN 0648-XF597

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Habitat Committee (HC) will hold a meeting via webinar that is open to the public.

DATES: The webinar will begin Wednesday, August 23, 2017 at 10 a.m. and end by 1 p.m. on the same day.

ADDRESSES: The meeting will be held via webinar. To attend the webinar, (1) join the meeting by visiting this link http://www.gotomeeting.com/online/webinar/join-webinar; (2) enter the webinar ID: 925-539-683, and (3) enter your name and email address (required). After logging in to the webinar, please (1) dial this TOLL number: 1-562-247-8422 (not a toll-free number); (2) enter the attendee phone audio access code 323-770-274; and (3) then enter your audio phone pin (shown after joining the webinar). Note: We have disabled mic/speakers as on option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (See the GoToMeeting WebinarApps). You may send an email to Mr. Kris Kleinschmidt at Kris.Kleinschmidt@noaa.gov or contact him at (503) 820-2280, extension 411 for technical assistance. A public listening station will also be available at the Pacific Council office (see address below).

Council address: Pacific Council, 7700 NE Ambassador Place, Suite 101, Portland, OR 97220-1384; telephone: (503) 820-2280.

FOR FURTHER INFORMATION CONTACT: Ms. Jennifer Gilden, Pacific Council; telephone: (503) 820-2418.

SUPPLEMENTARY INFORMATION: The primary purpose of the HC meeting is to develop a report for the Pacific Council pertaining to Oroville Dam relicensing, including preliminary fish weir plans, thermal controls, and timing of the relicensing process. The HC's report will be conveyed for consideration by the Pacific Council at its September 11-18, 2017 meeting in Boise, ID. Public comments during the webinar will be accepted at the discretion of the chair of the HC.

Although nonemergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2411 at least 10 business days prior to the meeting date.

Dated: August 7, 2017.
Tracey L. Thompson,
Acting Deputy Director, Office of Sustainable Fisheries, National Marine Fisheries Service.

[FR Doc. 2017-16865 Filed 8-9-17; 8:45 am]

BILLING CODE 3510-22-P